DEPARTMENT OF AGRICULTURE

Agricultural Marketing Service

7 CFR Parts 905 and 923

[Docket Nos. AMS-FV-07-0017; FV07-905-610 Review; and AMS-FV-07-0018; FV07-923-610 Review]

Oranges, Grapefruit, Tangerines, and Tangelos Grown in Florida; and Sweet Cherries Grown in Designated Counties in Washington; Section 610 Reviews

AGENCY: Agricultural Marketing Service, USDA.

ACTION: Notice of review and request for comments.

SUMMARY: This document announces that the Agricultural Marketing Service (AMS) plans to review Marketing Order 905 (Oranges, Grapefruit, Tangerines, and Tangelos Grown in Florida), and Marketing Order 923 (Sweet Cherries Grown in Designated Counties in Washington) under the criteria contained in section 610 of the Regulatory Flexibility Act (RFA).

DATES: Written comments on this notice must be received by August 20, 2007.

ADDRESSES: Interested persons are invited to submit written comments concerning this notice of review. Comments must be sent to the Docket Clerk, Marketing Order Administration Branch, Fruit and Vegetable Programs, AMS, USDA, 1400 Independence Avenue, SW., Stop 0237, Washington, DC 20250-0237; Fax: (202) 720-8938, or Internet: http://www.regulations.gov. All comments should reference the docket number and the date and page number of this issue of the Federal Register and will be made available for public inspection in the Office of the Docket Clerk during regular business hours, or may be viewed at http://www.regulations.gov.

FOR FURTHER INFORMATION CONTACT: Christian Nissen, Southeast Marketing Field Office, Marketing Order Administration Branch, Fruit and Vegetable Programs, AMS, USDA, Southeast Marketing Field Office, Marketing Order Administration Branch, Fruit and Vegetable Programs, AMS, USDA, Winter Haven, Florida; Telephone: (863) 324-3375; Fax: (863) 325-8793; or e-mail: Christian.Nissen@usda.gov regarding the Florida citrus marketing order; and Robert Curry, Northwest Marketing Field Office, Marketing Order Administration Branch, Fruit and Vegetable Programs, AMS, USDA, Portland, Oregon; Telephone: (503) 326-2724; Fax: (503) 326-7440; or e-mail: Robert.Curry@usda.gov regarding the Washington sweet cherry marketing order.

SUPPLEMENTARY INFORMATION: Marketing Order No. 905, as amended (7 CFR part 905), regulates the handling of oranges, grapefruit, tangerines, and tangelos grown in Florida. Marketing Order No. 923, as amended (7 CFR part 923), regulates the handling of sweet cherries grown in designated counties in Washington. These marketing orders are effective under the Agricultural Marketing Agreement Act of 1937 (AMAA), as amended (7 U.S.C. 601-674).

AMS initially published in the Federal Register on February 18, 1999 (64 FR 8014), its plan to review certain regulations, including Marketing Order Nos. 905 and 923, under criteria contained in section 610 of the Regulatory Flexibility Act (RFA) (5 U.S.C. 601-612). Due to certain changes and additions, updated plans were published in the Federal Register on January 4, 2002 (67 FR 525), August 14, 2003 (68 FR 48574), and finally on March 24, 2006 (71 FR 14827). Because many AMS regulations impact small entities, AMS has decided, as a matter of policy, to review certain regulations which, although they may not meet the threshold requirement under section 610 of the RFA, warrant review.

The purpose of the review will be to determine whether the marketing orders for Florida citrus and Washington sweet cherries should be continued without change, amendment, or termination (consistent with the objectives of the AMAA) to minimize the impacts on small entities. In conducting these reviews, AMS will consider the following factors: (1) The continued need for each of the marketing orders; (2) the nature of complaints or comments received from the public concerning these marketing orders; (3) the complexity of these marketing orders; (4) the extent to which these marketing orders overlap, duplicate, or conflict with other Federal rules, and, to the extent feasible, with State and local governmental rules; and (5) the length of time since these marketing orders have been evaluated, or the degree to which technology, economic conditions, or other factors have changed in the areas affected by both of these marketing orders.

Written comments, views, opinions, and other information regarding the impact the Florida citrus and Washington sweet cherry marketing orders have on small businesses are invited.

Dated: June 14, 2007.
Lloyd C. Day,
Administrator, Agricultural Marketing Service.

[FR Doc. E7-11929 Filed 6-19-07; 8:45 am]

BILLING CODE 3410-02-P